INTERNATIONAL TRADE COMMISSION

[Investigation No. 337-TA-604]

In the Matter of Certain Sucralose, Sweeteners Containing Sucralose, and Related Intermediate Compounds Thereof: Notice of Commission Determination Not To Review an Initial Determination Granting Complainants' Motion To Amend the Complaint and Notice of Investigation by Adding an Additional Respondent

AGENCY: U.S. International Trade Commission.

ACTION: Notice.

SUMMARY: Notice is hereby given that the U.S. International Trade Commission has determined not to review an initial determination (“ID”) (Order No. 17) of the presiding administrative law judge (“ALJ”) in the above-captioned investigation granting complainants” motion to amend the complaint and notice of investigation by adding an additional respondent.

FOR FURTHER INFORMATION CONTACT: James Worth, Office of the General Counsel, U.S. International Trade Commission, 500 E Street, SW., Washington, DC 20436, telephone (202) 205-2065. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on May 10, 2007, based upon a complaint filed on behalf of Tate & Lyle Technology Ltd. of London, United Kingdom, and Tate & Lyle Sucralose, Inc. of Decatur, Illinois (collectively, “Tate & Lyle”). The complaint alleged a violation of section 337(a)(1)(B) of the Tariff Act of 1930 (19 U.S.C. 1337) in the importation into the United States, the sale for importation, and the sale within the United States after importation of sucralose, sweeteners containing sucralose, and related intermediate compounds thereof by reason of infringement of various claims of United States Patent Nos. 4,980,463; 5,470,969; 5,034,551; 5,498,709; and 7,049,435. The notice of investigation named twenty-five respondents.

On August 17, 2007, Tate & Lyle filed a motion to add Heartland Sweeteners, LLC (“Heartland Sweeteners”) as a respondent to the investigation. Heartland Sweeteners filed an opposition. The Commission investigative attorney filed a response in support of the motion.

On September 7, 2007, the ALJ issued the subject ID, granting the motion to add Heartland Sweeteners as a respondent. No petitions for review were filed. The Commission has determined not to review the ID.

The authority for the Commission's determination is contained in section 337 of the Tariff Act of 1930, as amended (19 U.S.C. 1337), and in section 210.14(b), 210.42(c), and 210.42(h)(3) of the Commission's Rules of Practice and Procedure (19 CFR 210.14(b), 210.42(c), 210.42(h)(3)).

By order of the Commission.
Issued: October 3, 2007.
Marilyn R. Abbott,
Secretary to the Commission.

[FR Doc. E7-19862 Filed 10-9-07; 8:45 am]

BILLING CODE 7020-02-P